NUCLEAR REGULATORY COMMISSION

[Docket No. 50-395]

South Carolina Electric & Gas Company, South Carolina Public Service Authority; Notice of Consideration of Issuance of Amendment to Facility Operating License, Proposed No Significant Hazards Consideration Determination, and Opportunity for a Hearing

The U.S. Nuclear Regulatory Commission (the Commission) is considering issuance of an amendment to Facility Operating License No. NPF-12 issued to South Carolina Electric & Gas Company (SCE&G, the licensee) for operation of the Virgil C. Summer Nuclear Station, Unit No. 1, located in Fairfield County, South Carolina.

The proposed amendment would change Technical Specifications (TS) 3.8.1.1 and 3.8.1.2 to revise the minimum volume requirements for the emergency diesel generator (EDG) fuel oil system.

Before issuance of the proposed license amendment, the Commission will have made findings required by the Atomic Energy Act of 1954, as amended (the Act) and the Commission's regulations.

The Commission has made a proposed determination that the amendment request involves no significant hazards consideration. Under the Commission's regulations in 10 CFR 50.92, this means that operation of the facility in accordance with the proposed amendment would not (1) involve a significant increase in the probability or consequences of an accident previously evaluated; or (2) create the possibility of a new or different kind of accident from any accident previously evaluated; or (3) involve a significant reduction in a margin of safety. As required by 10 CFR 50.91(a), the licensee has provided its analysis of the issue of no significant hazards consideration, which is presented below:

1. Does the change involve a significant increase in the probability or consequences of an accident previously evaluated?

No.

The proposed change raises the minimum required fuel oil storage volume to 48,500 gallons for Modes 1-4 and raises the minimum required fuel oil storage volume to 42,500 gallons for Modes 5 and 6. These new TS volume requirements reflect design basis calculation revisions for load requirements following a design basis accident [DBA]. The increase in these TS volume requirements ensure[s] that at least 2% margin is maintained above the seven day requirement for Modes 1-4. Also, it ensures that at least 10% margin is maintained above the seven day requirement for Modes 5 and 6, which meets the 10% margin requirement set forth in Section 5.4 of ANSI [American National Standards Institute] N195-1976, “Fuel Oil Systems for Standby Diesel Generators.” This change also raises the day fuel tank minimum volume to 360 gallons for Modes 1-6, which meets the 10% margin requirement set forth in Section 6.1 of ANSI N195-1976, “Fuel Oil Systems for Standby Diesel Generators.” These revised TS volume requirements ensure that each EDG can supply the output necessary to assure the operation of the plant equipment required to prevent unacceptable consequences for any plant design basis event or accident condition. Therefore, there is no impact on the consequences of any accident.

In addition, the licensee performed an analysis to consider the impact of the proposed TS Bases change involving Fuel Oil Storage Tank capacity on plant risk. The licensee concluded that the increase in risk resulting from the proposed change to the licensing basis is insignificant. This change does not involve a significant increase in the probability of an accident previously evaluated since the change solely impacts risk during Loss of Offsite Power (LOOP) conditions for a duration of longer than about 7.14 days. When a LOOP of this duration occurs, the TS Bases change will reduce the operator response time to replenish the Fuel Oil Storage Tank to prevent the loss of a diesel generator from 7.7 days to 7.14 days for each of the EDGs. SCE&G believes that, given the relatively large recovery times, this reduction in response time will not significantly affect the calculated human error probabilities of operator response time. In addition, the change in the probability of recovery of AC power in the time frame between 7.14 days and 7.7 days is small. Therefore, SCE&G concludes that the risk impact of the proposed TS Bases change involving Fuel Oil Storage Tank capacity is small.

Therefore, the change does not involve a significant increase in the probability or consequences of an accident previously evaluated.

2. Does the change create the possibility of a new or different kind of accident from any accident previously evaluated?

No.

The proposed change raises the minimum required fuel oil storage volume to 48,500 gallons for Modes 1-4 and raises the minimum required fuel oil storage volume to 42,500 gallons for Modes 5 and 6. These new TS volume requirements reflect design basis calculation revisions for load requirements following a design basis accident. The increase in these TS volume requirements ensure[s] that at least 2% margin is maintained above the seven day requirement for Modes 1-4. Also, it ensures that at least 10% margin is maintained above the seven day requirement for Modes 5 and 6, which meets the 10% margin requirement set forth in Section 5.4 of ANSI N195-1976, “Fuel Oil Systems for Standby Diesel Generators.” This change also raises the day fuel tank minimum volume to 360 gallons for Modes 1-6, which meets the 10% margin requirement set forth in Section 6.1 of ANSI N195-1976, “Fuel Oil Systems for Standby Diesel Generators.” These changes are not associated with the possibility to create any new or different accident.

In addition, the proposed TS Bases change involving Fuel Oil Storage Tank capacity margins does not create the possibility of any new or different kind of accident. A single failure, consisting of the loss of one train of EDG fuel oil storage and transfer systems will not result in the loss of minimum diesel generator capacity, which is in accordance with Section 5.2 of ANSI N195-1976, “Fuel Oil Systems for Standby Diesel Generators.” The on-site oil storage shall remain sufficient to operate the minimum number of diesel-generators following the limiting DBA for 7 days, with at least 2% margin for Modes 1-4 and at least 10% margin for Modes 5 and 6.

3. Does this change involve a significant reduction in margin of safety?

No.

The proposed change raises the minimum required fuel oil storage volume to 48,500 gallons for Modes 1-4 and raises the minimum required fuel oil storage volume to 42,500 gallons for Modes 5 and 6. These new TS volume requirements reflect design basis calculation revisions for load requirements following a design basis accident. The increase in these TS volume requirements ensure[s] that at least 2% margin is maintained above the seven day requirement for Modes 1-4. Also, it ensures that at least 10% margin is maintained above the seven day requirement for Modes 5 and 6, which meets the 10% margin requirement set forth in Section 5.4 of ANSI N195-1976, “Fuel Oil Systems for Standby Diesel Generators.” This change also raises the day fuel tank minimum volume to 360 gallons for Modes 1-6, which meets the 10% margin requirement set forth in Section 6.1 of ANSI N195-1976, “Fuel Oil Systems for Standby Diesel Generators.”

In addition, the proposed TS Bases change involving Fuel Oil Storage Tank capacity does not involve a significant reduction in the margin of safety. A single failure, consisting of the loss of one train of EDG fuel oil storage and transfer systems will not result in the loss of minimum diesel generator capacity, which is in accordance with Section 5.2 of ANSI N195-1976, “Fuel Oil Systems for Standby Diesel Generators.” The on-site oil storage shall remain sufficient to operate the minimum number of diesel-generators following the limiting DBA for 7 days, with at least 2% margin for Modes 1-4 and at least 10% margin for Modes 5 and 6.

The licensee performed an analysis to evaluate the impact of the proposed TS Bases change involving Fuel Oil Storage Tank capacity on plant risk. The licensee concluded that the increase in risk resulting from the proposed change to the licensing basis is insignificant. This change does not involve a significant reduction in the margin of safety since the change solely impacts risk during Loss of Offsite Power (LOOP) conditions for a duration of longer than about 7.14 days. When a LOOP of this duration occurs, the TS Bases change will reduce the operator response time to replenish the Fuel Oil Storage Tank to prevent the loss of a diesel generator from 7.7 days to 7.14 days for each of the EDGs. SCE&G believes that, given the relatively large recovery times, this reduction in response time will not significantly affect the calculated human error probabilities of operator response time. In addition, the change in the probability of recovery of AC power in the time frame between 7.14 days and 7.7 days is small. Therefore, SCE&G concludes that the risk impact of the proposed TS Bases change involving Fuel Oil Storage Tank capacity is small.

Pursuant to 10 CFR 50.91, the preceding analyses provides a determination that the proposed Technical Specifications change poses no significant hazard as delineated by 10 CFR 50.92.

The NRC staff has reviewed the licensee's analysis and, based on this review, it appears that the three standards of 10 CFR 50.92(c) are satisfied. Therefore, the NRC staff proposes to determine that the amendment request involves no significant hazards consideration.

The Commission is seeking public comments on this proposed determination. Any comments received within 30 days after the date of publication of this notice will be considered in making any final determination.

Normally, the Commission will not issue the amendment until the expiration of the 30-day notice period. However, should circumstances change during the notice period such that failure to act in a timely way would result, for example, in derating or shutdown of the facility, the Commission may issue the license amendment before the expiration of the 30-day notice period, provided that its final determination is that the amendment involves no significant hazards consideration. The final determination will consider all public and State comments received. Should the Commission take this action, it will publish in the Federal Register a notice of issuance and provide for opportunity for a hearing after issuance. The Commission expects that the need to take this action will occur very infrequently.

Written comments may be submitted by mail to the Chief, Rules and Directives Branch, Division of Administrative Services, Office of Administration, U.S. Nuclear Regulatory Commission, Washington, DC 20555-0001, and should cite the publication date and page number of this Federal Register notice. Written comments may also be delivered to Room 6D59, Two White Flint North, 11545 Rockville Pike, Rockville, Maryland, from 7:30 a.m. to 4:15 p.m. Federal workdays. Documents may be examined, and/or copied for a fee, at the NRC's Public Document Room, located at One White Flint North, 11555 Rockville Pike (first floor), Rockville, Maryland.

The filing of requests for hearing and petitions for leave to intervene is discussed below.

By December 20, 2000, the licensee may file a request for a hearing with respect to issuance of the amendment to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR Part 2. Interested persons should consult a current copy of 10 CFR 2.714, which is available at the Commission's Public Document Room, located at One White Flint North, 11555 Rockville Pike (first floor), Rockville, Maryland, and accessible electronically through the ADAMS Public Electronic Reading Room link at the NRC Web site ­(http://www.nrc.gov). If a request for a hearing or petition for leave to intervene is filed by the above date, the Commission or an Atomic Safety and Licensing Board, designated by the Commission or by the Chairman of the Atomic Safety and Licensing Board Panel, will rule on the request and/or petition; and the Secretary or the designated Atomic Safety and Licensing Board will issue a notice of hearing or an appropriate order.

As required by 10 CFR 2.714, a petition for leave to intervene shall set forth with particularity the interest of the petitioner in the proceeding, and how that interest may be affected by the results of the proceeding. The petition should specifically explain the reasons why intervention should be permitted with particular reference to the following factors: (1) The nature of the petitioner's right under the Act to be made party to the proceeding; (2) the nature and extent of the petitioner's property, financial, or other interest in the proceeding; and (3) the possible effect of any order which may be entered in the proceeding on the petitioner's interest. The petition should also identify the specific aspect(s) of the subject matter of the proceeding as to which petitioner wishes to intervene. Any person who has filed a petition for leave to intervene or who has been admitted as a party may amend the petition without requesting leave of the Board up to 15 days prior to the first prehearing conference scheduled in the proceeding, but such an amended petition must satisfy the specificity requirements described above.

Not later than 15 days prior to the first prehearing conference scheduled in the proceeding, a petitioner shall file a supplement to the petition to intervene which must include a list of the contentions which are sought to be litigated in the matter. Each contention must consist of a specific statement of the issue of law or fact to be raised or controverted. In addition, the petitioner shall provide a brief explanation of the bases of the contention and a concise statement of the alleged facts or expert opinion which support the contention and on which the petitioner intends to rely in proving the contention at the hearing. The petitioner must also provide references to those specific sources and documents of which the petitioner is aware and on which the petitioner intends to rely to establish those facts or expert opinion. Petitioner must provide sufficient information to show that a genuine dispute exists with the applicant on a material issue of law or fact. Contentions shall be limited to matters within the scope of the amendment under consideration. The contention must be one which, if proven, would entitle the petitioner to relief. A petitioner who fails to file such a supplement which satisfies these requirements with respect to at least one contention will not be permitted to participate as a party.

Those permitted to intervene become parties to the proceeding, subject to any limitations in the order granting leave to intervene, and have the opportunity to participate fully in the conduct of the hearing, including the opportunity to present evidence and cross-examine witnesses.

If a hearing is requested, the Commission will make a final determination on the issue of no significant hazards consideration. The final determination will serve to decide when the hearing is held.

If the final determination is that the amendment request involves no significant hazards consideration, the Commission may issue the amendment and make it immediately effective, notwithstanding the request for a hearing. Any hearing held would take place after issuance of the amendment.

If the final determination is that the amendment request involves a significant hazards consideration, any hearing held would take place before the issuance of any amendment.

A request for a hearing or a petition for leave to intervene must be filed with the Secretary of the Commission, U.S. Nuclear Regulatory Commission, Washington, DC 20555-0001, Attention: Rulemakings and Adjudications Staff, or may be delivered to the Commission's Public Document Room, located at One White Flint North, 11555 Rockville Pike (first floor), Rockville, Maryland, by the above date. A copy of the petition should also be sent to the Office of the General Counsel, U.S. Nuclear Regulatory Commission, Washington, DC 20555-0001, and to Thomas G. Eppink, South Carolina Electric & Gas Company, Post Office Box 764, Columbia, South Carolina 29218, attorney for the licensee.

Nontimely filings of petitions for leave to intervene, amended petitions, supplemental petitions and/or requests for hearing will not be entertained absent a determination by the Commission, the presiding officer or the presiding Atomic Safety and Licensing Board that the petition and/or request should be granted based upon a balancing of the factors specified in 10 CFR 2.714(a)(1)(i)-(v) and 2.714(d).

For further details with respect to this action, see the application for amendment dated November 10, 2000, which is available for public inspection at the Commission's Public Document Room, located at One White Flint North, 11555 Rockville Pike (first floor), Rockville, Maryland, and accessible electronically through the ADAMS Public Electronic Reading Room link at the NRC Web site (http://www.nrc.gov).

Dated at Rockville, Maryland, this 14th day of November 2000.
For the Nuclear Regulatory Commission.
Richard L. Emch, Jr.,
Chief, Section 1, Project Directorate II, Division of Licensing Project Management, Office of Nuclear Reactor Regulation.

[FR Doc. 00-29635 Filed 11-17-00; 8:45 am]

BILLING CODE 7590-01-P